ENVIRONMENTAL PROTECTION AGENCY

40 CFR Part 52

[EPA-R05-OAR-2006-0542; FRL-8285-3]

Approval and Promulgation of Air Quality Implementation Plans; Wisconsin; Cook Composites and Polymers Company

AGENCY: Environmental Protection Agency (EPA).

ACTION: Direct final rule.

SUMMARY: The EPA is approving Wisconsin's April 25, 2006, submittal of a source specific revision to revise its State Implementation Plan (SIP) for the control of volatile organic compounds. The revision consists of language contained in an Administrative Decision, dated February 24, 2005, approving an equivalent control system to meet reasonably available control technology (RACT) emission control requirements for Cook Composites and Polymers Company located in Saukville, Wisconsin, in Ozaukee County.

DATES: This direct final rule will be effective May 15, 2007, unless EPA receives adverse comments by April 16, 2007. If adverse comments are received, EPA will publish a timely withdrawal of the direct final rule in the Federal Register informing the public that the rule will not take effect.

ADDRESSES: Submit your comments, identified by Docket ID No. EPA-R05-OAR-2006-0542, by one of the following methods:

1. www.regulations.gov: Follow the on-line instructions for submitting comments.

2. E-mail: mooney.john@epa.gov.

3. Fax: (312) 886-5824.

4. Mail: John M. Mooney, Chief, Criteria Pollutant Section, Air Programs Branch (AR-18J), U.S. Environmental Protection Agency, 77 West Jackson Boulevard, Chicago, Illinois 60604.

5. Hand Delivery: John M. Mooney, Chief, Criteria Pollutant Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Instructions: Direct your comments to Docket ID No. EPA-R05-OAR-2006-0542. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding legal holidays. We recommend that you telephone Charles Hatten, Environmental Engineer, at (312) 886-6031 before visiting the Region 5 office.

FOR FURTHER INFORMATION CONTACT: Charles Hatten, Environmental Engineer, Criteria Pollutant Section, Air Programs Branch (AR-18J), Environmental Protection Agency, Region 5, 77 West Jackson Boulevard, Chicago, Illinois 60604, (312) 886-6031, Hatten.Charles@epa.gov.

SUPPLEMENTARY INFORMATION: Throughout this document whenever “we,” “us,” or “our” is used, we mean EPA. This supplementary information section is arranged as follows:

I. General Information

II. Review of Wisconsin's Plan

III. What Change is Wisconsin Requesting?

IV. Why is the Request Approvable?

V. What Action is EPA Taking Today?

VI. Statutory and Executive Order Reviews

I. General Information

This rulemaking applies to Cook Composites and Polymers Company located in Saukville, Wisconsin, in Ozaukee County, and the control of volatile organic compounds (VOC) emissions from its synthetic resin manufacturing operations. The revision consists of language contained in a Administrative Decision (AM-05-200), dated February 24, 2005, approving the use of a high efficiency thermal oxidizer as an equivalent control system to meet VOC reasonably available control technology (RACT) emission control requirements in section NR 412.05(2)(a)(2) of the Wisconsin Administrative Code.

II. Review of Wisconsin's Plan

Wisconsin's Current SIP

On August 15, 1994, EPA approved rule NR 421.05 of the Wisconsin Administrative Code, as a VOC RACT requirement to control emissions from synthetic resin manufacturing facilities. See Federal Register 59 FR 41709. Under the existing federally-approved SIP for Wisconsin, the requirements in NR 421.05 apply to stationary sources located in the counties of Kenosha, Milwaukee, Ozaukee, Racine, Washington and Waukesha.

Applicability of Wisconsin Rule NR 412.05

In chapter NR 421 of Wisconsin Administrative Code, section NR 421.05, this VOC RACT requirement specifically applies to the control of VOC emissions from “reaction tanks, thinning tanks, blending tanks and other process vessels used in any synthetic resin manufacturing facility.” The RACT rule prescribes the use of a surface condenser system for control of VOC emissions, but also allows for the use of an alternative control technology. The rule establishes a procedure for the State and EPA approval of alternative control technology. Section NR 421.05(2)(a) states, “any equally effective control method or equivalent system approved by the department under this paragraph shall be submitted to, and will not become effective for federal purposes until approved by, the administrator or designee as a source-specific revision to the department's state implementation plan for ozone. The emission control system shall be one of the following:

1. A surface condenser, or equally effective control device approved by the department, and a vapor recovery or control system that reduces emissions from the surface condenser or equally effective device by 85%.

2. An equivalent system or approach demonstrated to reliably control emissions from a process that does not include a condenser by not less than 90% as approved by the department.”

III. What Change Is Wisconsin Requesting?

On April 25, 2006, Wisconsin submitted to EPA a source specific SIP revision in the form of an Administrative Decision (AM-05-200) requesting approval to establish VOC RACT requirements for Cook Composites and Polymers Company, applicable to its synthetic resin manufacturing facility. Because Cook Composites and Polymers Company installed a thermal oxidizer instead of a surface condenser system as an emission control system, section NR 421.05(2)(a) requires Wisconsin to submit a request to EPA to approve the use of the thermal oxidizer as a source specific revision to Wisconsin's SIP. The VOC RACT requirement in section NR 421.05(2)(a)(2) requires an “equivalent control system or approach demonstrated to reliably control VOC emissions from a process that does not include a condenser by not less than 90%.” The Administrative Decision (AM-05-200) includes a decision by the State of Wisconsin approving the use of a high-efficiency thermal oxidizer to meet the VOC RACT emission control requirement in section NR 421.05(2)(a)(2).

IV. Why Is the Request Approvable?

The findings of fact contained in the Administrative Decision (AM-05-200), along with a copy of the compliance emission test report, show that the thermal oxidizer meets VOC RACT emission control requirements contained in section NR 421.05(2)(a)(2). The test to determine the thermal oxidizer's VOC destruction and removal efficiency demonstrated an average VOC destruction and removal efficiency of 99.7%, well within the parameters of “an equivalent system or approach demonstrated to reliably control emissions from a process that does not include a condenser by not less than 90%.”

V. What Action Is EPA Taking Today?

Based on the rationale set forth above, EPA is approving the revision to the Wisconsin SIP regarding Administrative Decision (AM-05-200), concerning Cook Composites and Polymers Company (synthetic resin manufacturing facility) and its use of a high-efficiency thermal oxidizer to be an equivalent control system or approach to meet VOC RACT emission control requirements contained in section NR 421.05(2)(a)(2).

We are publishing this action without prior proposal because we view this as a noncontroversial amendment and anticipate no adverse comments. However, in the proposed rules section of this Federal Register publication, we are publishing a separate document that will serve as the proposal to approve the state plan if relevant adverse written comments are filed. This rule will be effective May 15, 2007 without further notice unless we receive relevant adverse written comments by April 16, 2007. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective May 15, 2007.

VI. Statutory and Executive Order Reviews

Executive Order 12866: Regulatory Planning and Review

Under Executive Order 12866 (58 FR 51735, October 4, 1993), this action is not a “significant regulatory action” and, therefore, is not subject to review by the Office of Management and Budget.

Executive Order 13211: Actions That Significantly Affect Energy Supply, Distribution, or Use

Because it is not a “significant regulatory action” under Executive Order 12866 or a “significant energy action,” this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (59 FR 22951, November 9, 2000).

Executive Order 13132: Federalism

This action also does not have Federalism implications because it does not have substantial direct effects on the states, on the relationship between the national government and the states, or on the distribution of power and responsibilities among the various levels of government, as specified in Executive Order 13132 (64 FR 43255, August 10, 1999). This action merely approves a state rule implementing a federal standard, and does not alter the relationship or the distribution of power and responsibilities established in the Clean Air Act.

Executive Order 13045: Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by May 15, 2007. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Reporting and recordkeeping requirements, Ozone, and Volatile organic compounds.

Dated: February 27, 2007.
Steve Rothblatt,
Acting Regional Administrator, Region 5.

For the reasons stated in the preamble, part 52, chapter I, of title 40 of the Code of Federal Regulations is amended as follows:

PART 52—[AMENDED]

1. The authority citation for part 52 continues to read as follows:

Authority: 42 U.S.C. 7401 et seq.

Subpart YY—Wisconsin

2. Section 52.2570 is amended by adding paragraph (c)(115) to read as follows:

§ 52.2570 Identification of plan.

* * * * *

(c) * * *

(115) On April 25, 2006, Wisconsin submitted source specific SIP revision to revise its State Implementation Plan (SIP) for the control of volatile organic compounds (VOC) from synthetic resin manufacturing operations. The revision consists of language contained in an Administrative Decision (AM-05-200), dated February 24, 2005, approving the use of a high efficiency thermal oxidizer as an equivalent control system or approach to meet VOC RACT emission control requirements for Cook Composites and Polymers Company located in Saukville, Wisconsin, in Ozaukee County.

(i) Incorporation by reference.

(A) The Administrative Decision (AM-05-200), dated February 24, 2005, issued by the Wisconsin Department of Natural Resources, establishes VOC RACT for Cook Composites and Polymers Company synthetic resin manufacturing facility located in Saukville, Wisconsin, in Ozaukee County.

[FR Doc. E7-4771 Filed 3-15-07; 8:45 am]

BILLING CODE 6560-50-P